DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 14311-14312, dated March 5, 2013).

This notice reflects organizational changes to the Health Resources and Services Administration. This notice updates the functional statement for the Bureau of Primary Health Care (RC). Specifically, this notice: (1) Establishes the Office of National Assistance and Special Populations (RCE); (2) abolishes the Office of Training and Technical Assistance Coordination (RCS) and the Office of Special Population Health (RCG); and (3) updates the functional statement for the Office of the Associate Administrator (RC), the Office of Administrative Management (RCM), the Office of Policy and Program Development (RCH), and the Office of Quality and Data (RCK).

Chapter RC—Bureau of Primary Health Care

Section RC-10, Organization

Delete in its entirety and replace with the following:

The Bureau of Primary Health Care (RC) is headed by the Associate Administrator, who reports directly to the Administrator, Health Resources and Services Administration. The Bureau of Primary Health Care includes the following components:

(1) Office of the Associate Administrator (RC);

(2) Office of Administrative Management (RCM);

(3) Office of Policy and Program Development (RCH);

(4) Office of Quality and Data (RCK);

(5) Office of National Assistance and Special Populations (RCE);

(6) Northeast Division (RCU);

(7) Central Southeast Division (RCV);

(8) North Central Division (RCT); and

(9) Southwest Division (RCW).

Section RC-20, Functions

(1) Delete the functional statement for the Office of Training and Technical Assistance Coordination (RCS) and the Office of Special Population Health (RCG); (2) update the functional statement for the Office of the Associate Administrator (RC), the Office of Administrative Management (RCM), the Office of Policy and Program Development (RCH), and the Office of Quality and Data (RCK); and (3) establish the functional statement for the Office of National Assistance and Special Populations (RCE).

Office of the Associate Administrator (RC)

Provides overall leadership, direction, coordination, and planning in support of BPHC programs. Specifically: (1) Establishes program goals, objectives, and priorities, and provides oversight to their execution; (2) plans, directs, coordinates, supports, and evaluates BPHC-wide management activities; and (3) maintains effective relationships within HRSA and with other Department of Health and Human Services (HHS) organizations, other federal agencies, state and local governments, and other public and private organizations concerned with primary health care, eliminating health disparities, and improving the health status of the nation's underserved and vulnerable populations.

Office of Administrative Management (RCM)

Plans, directs, and coordinates BPHC-wide administrative management activities. Specifically: (1) Serves as BPHC's principal source for administrative and management advice, analysis, and assistance; (2) provides guidance and coordinates personnel activities for BPHC; (3) provides organization and management analysis, coordinating the allocation of personnel resources, developing policies and procedures for internal operations, interpreting and implementing BPHC management policies, procedures and systems; (4) develops and coordinates BPHC program and administrative delegations of authority activities; (5) provides guidance to BPHC on financial management activities; (6) provides BPHC-wide support services such as continuity of operations and emergency planning, contracts, procurement, supply management, equipment utilization, printing, property management, space management, records management, and management reports; (7) serves as BPHC Executive Secretariat; (8) serves as BPHC's focal point for the design and implementation of management information systems to assess and improve program performance and internal operations; and (9) coordinates BPHC administrative management activities with other components within HRSA and HHS, and with other federal agencies, state and local governments, and other public and private organizations, as appropriate.

Office of Policy and Program Development (RCH)

Serves as the organizational focus for the development of BPHC programs and policies. Specifically: (1) Leads and monitors the development and expansion of primary care programs, including health centers and other health systems; (2) identifies and provides assistance to communities, community-based organizations, and BPHC programs related to the development and expansion of primary care programs; (3) manages BPHC capital and loan guarantee programs; (4) leads and coordinates the analysis, development, and drafting of policy impacting BPHC programs; (5) consults and coordinates with other components within HRSA and HHS, and with other federal agencies, state and local governments, and other public and private organizations on issues affecting BPHC programs and policies; (6) performs environmental scanning on issues that affect BPHC programs; and (7) monitors BPHC activities in relation to the HRSA and HHS Strategic Plan.

Office of Quality and Data (RCK)

Serves as the organizational focus for BPHC program performance, clinical and operational quality improvement, data reporting, and program evaluation. Specifically: (1) Provides leadership for implementing BPHC clinical quality and performance improvement strategies/initiatives, including health information technology; (2) oversees BPHC Federal Tort Claims Act (FTCA) medical malpractice liability programs, reviewing clinical, quality improvement, risk management, and patient safety activities to improve policies and programs for primary health care services, including clinical information systems; (3) leads and coordinates BPHC accreditation and national quality recognition programs; (4) oversees BPHC health center network programs related to health information technology and quality improvement; (5) coordinates BPHC clinical, quality and performance reporting activities within HRSA and HHS, and with other federal agencies, state and local governments, and other public and private organizations concerned with primary health care, eliminating health disparities, and improving the health status of the nation's underserved and vulnerable populations; (6) identifies and provides assistance to BPHC programs around clinical, quality and performance reporting activities; and (7) serves as BPHC's focal point for the design and implementation of program evaluations.

Office of National Assistance and Special Populations (RCE)

Serves as the organizational focus for BPHC technical assistance activities, including activities relating to the delivery of health services to special populations. Specifically: (1) Leads national technical assistance activities for BPHC; (2) advises BPHC about the needs of special populations; (3) identifies key technical assistance needs of BPHC programs, including programs related to the development, delivery and expansion of services targeted to special populations, and develops resources to address them; (4) manages BPHC technical assistance programs and contracts; (5) serves as BPHC's focal point for communication and program information resources; (6) coordinates and supports emergency preparedness and response for BPHC programs; (7) provides support to the National Advisory Council on Migrant Health; and (8) coordinates BPHC technical assistance activities, including activities targeted to special populations, within HRSA and HHS, and with other federal agencies, state and local governments, and other public and private organizations concerned with primary health care, eliminating health disparities, and improving the health status of the nation's underserved and vulnerable populations.

Section RC-30, Delegations of Authority

All delegations of authority and re-delegations of authority made to HRSA officials that were in effect immediately prior to this reorganization, and that are consistent with this reorganization, shall continue in effect pending further re-delegation.

This reorganization is effective upon date of signature.

Dated: March 10, 2013.
Mary K. Wakefield,
Administrator.

[FR Doc. 2013-06043 Filed 3-14-13; 8:45 am]

BILLING CODE 4165-15-P